DEPARTMENT OF TRANSPORTATION

Pipeline and Hazardous Materials Safety Administration

[Docket No. PHMSA-2012-0301; Notice No. 12-10]

Assessment of Hazardous Materials Incident Data Collection, Analysis, Reporting, and Use

AGENCY: Pipeline and Hazardous Materials Safety Administration (PHMSA), DOT.

ACTION: Notice.

SUMMARY: This notice is a request for comments and information to be used for an assessment to improve the collection, analysis, reporting, and use of data related to accidents and incidents involving the transportation of hazardous materials. This notice is being conducted in support of the “Moving Ahead for Progress in the 21st Century” (MAP-21) Act.

DATES: Comments must be received by December 28, 2012.

ADDRESSES: You may submit comments by identification of the docket number (PHMSA-2012-12-10) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue SE., Washington, DC 20590.

• Hand Delivery: To Docket Operations, Room W12-140 on the ground floor of the West Building, 1200 New Jersey Avenue SE., Washington, DC 20590, between 9 a.m. and 5 p.m., Monday through Friday, except Federal holidays.

Instructions: All submissions must include the agency name and docket number for this notice at the beginning of the comment. All comments received will be posted without change to the Federal Docket Management System (FDMS), including any personal information.

Docket: For access to the dockets to read background documents or comments received, go to http://www.regulations.gov or DOT's Docket Operations Office (see ADDRESSES).

Privacy Act: Anyone is able to search the electronic form of any written communications and comments received into any of our dockets by the name of the individual submitting the document (or signing the document, if submitted on behalf of an association, business, labor union, etc.). You may review DOT's complete Privacy Act Statement in the Federal Register published on April 11, 2000 (Volume 65, Number 70; Pages 19477-78).

FOR FURTHER INFORMATION CONTACT: Mr. David Lehman or Ms. Yolanda Braxton, Office of Hazardous Materials Safety, Department of Transportation, Washington, DC 20590; (202) 366-1074.

SUPPLEMENTARY INFORMATION:

I. Background

PHMSA, and its predecessor agency the Research and Special Programs Administration (RSPA), have collected hazardous materials incident reports for over 40 years. The Hazardous Materials Regulations (HMR; 49 CFR Parts 171-180) establish requirements for an immediate report (see § 171.15) and a detailed incident report (Form DOT F5800.1; see § 171.16). Over 500,000 detailed incident reports have been collected over time. The incident data and information is generally used by PHMSA to:

1. Evaluate regulatory effectiveness;

2. Determine the need for regulatory changes to address changing transportation safety problems;

3. Identify major problem or risk areas that should receive priority attention;

4. Chart trends;

5. Identify problems and training inadequacies;

6. Evaluate packages and packaging;

7. Assess ways to reduce releases;

8. Aid the targeting of enforcement activities; and

9. Assist in evaluating fitness for special permits and approvals.

II. Purpose of This Notice

Section 33006(a) of MAP-21 (Pub. L. 112-141 § 33006(a), 126 Stat. 835, July 6, 2012) requires the Department to conduct an assessment to improve the collection, analysis, reporting, and use of data related to accidents and incidents involving the transportation of hazardous materials.

Section 33006(b) requires the Department to rely on the results of the assessment to develop an action plan and timeline for improving the collection, analysis, reporting, and use of data related to accidents and incidents involving the transportation of hazardous materials.

The provisions of MAP-21 set an expedited timeline, with the assessment due not later than six months after the date of enactment (§ 33006(a)) and the action plan due three months after (§ 33006(b)). Upon completion of the action plan and timeline the agency has fifteen days to submit them to Congress (§ 33006(c)).

In this notice, PHMSA is soliciting information, comments, and inputs related to the required elements of the assessment contained in MAP-21. Specifically, please provide comments on your view of the methods used by PHMSA to collect, analyze, report, and use data. Also, please provide comments on the adequacy of and suggestions for improvement to:

1. Information requested on the accident and incident reporting forms required to be submitted to PHMSA;

2. Methods used by PHMSA to verify that the information provided on such forms is accurate and complete;

3. Accident and incident reporting requirements, including whether such requirements should be expanded to include shippers and consignees of hazardous materials;

4. Resources of PHMSA related to data collection, analysis, and reporting, including staff and information technology; and

5. The database used by PHMSA for recording and reporting such accidents and incidents, including the ability of users to adequately search the database and find information.

Issued in Washington, DC, on November 15, 2012 under authority delegated in 49 CFR Part 1.
Magdy El-Sibaie,
Associate Administrator for Hazardous Materials Safety, Pipeline and Hazardous Materials Safety Administration.

[FR Doc. 2012-28245 Filed 11-20-12; 8:45 am]

BILLING CODE 4910-60-P